FEDERAL EMERGENCY MANAGEMENT AGENCY

44 CFR Part 65

[Docket No. FEMA-7305]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program.

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR Part 10, Environmental Consideration. No environmental impact assessment has been prepared.

Regulatory Flexibility Act. The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Jefferson | City of Birmingham | Sept. 20, 1999, Sept. 27, 1999, Birmingham News | The Honorable William A. Bell, Sr., Mayor of the city of Birmingham, 710 North 20th Street, Birmingham, Alabama 35203 | Dec. 26, 1999 | 010116 E
Jefferson | Unincorporated areas | Sept. 20, 1999, Sept. 27, 1999, Birmingham News | Mr. Gary White, President of the Jefferson County Commission, 716 21st Street, Birmingham, Alabama 35263 | Dec. 26, 1999 | 010217 E
Talladya | City of Sylacauga | Oct. 1, 1999, Oct. 8, 1999, Daily Home | The Honorable Jesse L. Cleveland, mayor of the city of Sylacauga, P.O. Box 390, Sylacauga, Alabama 35150 | Sep. 21, 1999 | 010199 C
Connecticut:
Fairfield | Town of Darien | Oct. 28, 1999, Nov. 4, 1999, Darien News Review | Mr. Robert F. Harrel, town of Darien First Selectman, 2 Renshaw Road, Darien, Connecticut 06820 | Oct. 18, 1999 | 090005 d&e
Fairfield | Town of Greenwich | Oct. 4, 1999, Oct. 11, 1999, Greenwich Times | Mr. Thomas Ragland, Selectman for the town of Greenwich, Town Hall, 101 Field Point Road, Greenwich, Connecticut 06836 | Sept. 24, 1999 | 090008 d&e
Fairfield | City of Stamford | June 24, 1999, July 1, 1999, The Advocate | The Honorable Dannel P. Malloy, mayor of the city of Stamford, 888 Washington, Boulevard, P.O. Box 10152, Stamford, Connecticut 06904 | Sept. 29, 1999 | 090015 D
Florida:
Dade | City of Miami | Oct. 7, 1999, Oct. 14, 1999, The Miami Herald | Mr. Donald H. Warshaw, Miami city Manager, 444 SW 2nd Avenue, 10th floor, Miami, Florida 33130 | Sept. 24, 1999 | 120650 J
Sumter | Unincorporated areas | Oct. 14, 1999, Oct. 21, 1999, Sumter County Times | Mr. Benny Strickland, Chairman of the Sumter County Board of Commissioners, 209 North Florida Street, room 206, Bushnell, Florida 33513 | Oct. 5, 1999 | 120296 B
Georgia:
Henry | Unincorporated areas | Nov. 17, 1999, Nov. 24, 1999, The Daily Herald | Mr. Jim Joyner, Chairman of the Henry County Board of Commissioners, 345 Phillips Drive, McDonough, Georgia 30253 | Feb. 22, 2000 | 130468 B
Fulton | Unincorporated areas | Dec. 15, 1999, Dec. 22, 1999, The Atlanta Journal & Constitution | Ms. Cecelia Corbin-Hunter, Interim Fulton County Manager, 141 Pryor Street, S.W., Tenth Floor, Atlanta, Georgia 30303 | Dec. 7, 1999 | 135160 E
Henry | City of Stockbridge | Nov. 17, 1999, Nov. 24, 1999, The Daily Herald | The Honorable Rudy Kelley, mayor of the city of Stockbridge, 4545 North Henry Boulevard, Stockbridge, Georgia 30281 | Feb. 22, 2000 | 130468 B
Ilinois:
Cook | Unincorporated areas | July 28, 1999, Aug. 4, 1999, The Daily Southtown | Mr. John H. Stroger, president of the Cook County Board of Commissioners, 118 North Clark Street, room 537, Chicago, Illinois 60602 | Nov. 2, 1999 | 170054 F
DuPage | City of Naperville | Dec. 8, 1999, Dec. 17, 1999, The Herald News | The Honorable A. George Pradel, mayor of the city of Naperville, 400 South Eagle Street, Naperville, Illinois 60566 | Mar. 14, 2000 | 170213 C
Cook | Village of Schaumburg | Sept. 24, 1999, Oct. 1, 1999, The Daily Herald | Mr. Al Larson, village of Schaumburg president, 101 Schaumburg Court, Schaumburg, Illinois 60193-1899 | Sept. 17, 1999 | 170158 D
Will | Village of Beecher | Sept. 22, 1999, Beecher Herald | Mr. Paul Lohmann, Beecher Village president, P.O. Box 1154, 7224 Penfield Road, Beecher, Illinois 60401 | Oct. 18, 1999 | 170696 E
Will | Unincorporated areas | Dec. 8, 1999, Dec. 17, 1999, The Herald News | Mr. Charles R. Adelman, Will County Executive, 302 North Chicago Street, Joliet, Illinois 60432 | Mar. 14, 2000 | 170695 E
Indiana: Madison | City of Anderson | Dec. 1, 1999, Dec. 8, 1999, The Herald Bulletin | The Honorable J. Mark Lawler, mayor of the city of Anderson, 120 East Eighth Street, P.O. Box 2100, Anderson, Indiana 46016 | Nov. 24, 1999 | 180150 C
Mississippi:
Lauderdale | Unincorporated areas | Oct. 5, 1999, Oct. 12, 1999, The Meridian Star | Mr. Rex Hiatt, Lauderdale County administrator, 410 Constitution Avenue, 11th Floor, Meridian, Mississippi 39301 | Sept. 30, 1999 | 280224 D
Lauderdale | City of Meridian | Oct. 5, 1999, Oct. 12, 1999, The Meridian Star | The Honorable John Robert Smith, mayor of the city of Meridian, P.O. Box 1430, Meridian, Mississippi 39302-1430 | Sept. 30, 1999 | 280096 D
Rankin | City of Pearl | Nov. 24, 1999, Dec. 1, 1999, Rankin County News | The Honorable Jimmy Foster, mayor of the city of Pearl, P.O. Box 5948, Pearl, Mississippi 39288-5948 | Feb. 28, 2000 | 280145 D
New Hampshire:
Hillsborough | Town of Bedford | Sept. 9, 1999, Sept. 16, 1999, Bedford Bulletin | Ms. Catherine Debo, Bedford Town manager, Town Office Building, 24 North Amherst Road, Bedford, New Hampshire 03110 | July 15, 1999 | 330083 C
Merrimack | Town of Epsom | Oct. 1, 1999, Concord Monitor | Mr. John Hickey, Chairman of the Town of Epsom Board of Selectmen, P.O. Box 10, Epsom, New Hampshire 03234 | Nov. 1, 1999 | 330112 B
Ohio: Lucas | Unincorporated areas | Nov. 17, 1999, Nov. 24, 1999, The Blade | Ms. Sandy Isenberg, President of the Lucas County Board of Commissioners, One Government Center, Suite 800, Toledo, Ohio 43604-2259 | Feb. 22, 2000 | 390359 D
South Carolina: Richland | Unincorporated areas | Sept. 23, 1999, Sept. 30, 1999, The State | Mr. T. Cary McSwain, Richland County Administrator, P.O. Box 192, Columbia, South Carolina 29202 | Sept. 15, 1999 | 450170 D
Tennessee:
Hamilton | City of East Ridge | Sept. 10, 1999, Sept. 17, 1999, Chattanooga Times Free Press | The Honorable Fred Pruett, mayor of the city of East Ridge, 1517 Tombras Avenue, East Ridge, Tennessee 37412 | Sept. 2, 1999 | 475424 D
Shelby | Town of Collierville | Sept. 23, 1999, Sept. 30, 1999, Collierville Herald | The Honorable Herman W. Cox, Jr., mayor of the town of Collierville, 101 Walnut Street, Collierville, Tennessee 38017-2671 | Sept. 15, 1999 | 470263 D
Shelby | City of Germantown | Nov. 18, 1999, Nov. 25, 1999, Germantown News | The Honorable Sharon Goldsworthy, mayor of the city of Germantown, P.O. Box 38809, Germantown, Tennessee 38183-0809 | Nov. 10, 1999 | 470353 D
Wisconsin: Washington | Unincorporated areas | Oct. 5, 1999, Oct. 12, 1999, The Daily News | Mr. Kenneth F. Miller, Chairman of the Washington County Board of Commissioners, 432 East Washington Street, P.O. Box 1986, West Bend, Wisconsin 53095 | Jan. 10, 2000 | 550471 B

(Catalog of Federal Domestic Assistance No. 83.100, “Flood Insurance.”)

Michael J. Armstrong,
Associate Director for Mitigation.

[FR Doc. 00-3522 Filed 2-14-00; 8:45 am]

BILLING CODE 6718-04-P